DEPARTMENT OF ENERGY

Federal Energy Regulatory Commission

Combined Notice of Filings #1

Take notice that the Commission received the following electric corporate filings:

Docket Numbers: EC11-109-000.

Applicants: APX, Inc.

Description: Application of APX, Inc. for Authorization under Section 203 of the Federal Power Act and Request for Expedited Action.

Filed Date: 08/24/2011.

Accession Number: 20110824-5128.

Comment Date: 5 p.m. Eastern Time on Wednesday, September 14, 2011.

Take notice that the Commission received the following exempt wholesale generator filings:

Docket Numbers: EG11-121-000.

Applicants: Bellevue Solar, LLC.

Description: Notice of Self-Certification of Exempt Wholesale Generator Status of Bellevue Solar, LLC.

Filed Date: 08/24/2011.

Accession Number: 20110824-5081.

Comment Date: 5 p.m. Eastern Time on Wednesday, September 14, 2011.

Docket Numbers: EG11-122-000.

Applicants: Yamhill Solar, LLC.

Description: Notice of Self-Certification of Exempt Wholesale Generator Status of Yamhill Solar, LLC.

Filed Date: 08/24/2011.

Accession Number: 20110824-5082.

Comment Date: 5 p.m. Eastern Time on Wednesday, September 14, 2011.

Docket Numbers: EG11-123-000.

Applicants: Osage Wind, LLC.

Description: Notice of Self-Certification of Exempt Wholesale Generator Status of Osage Wind, LLC.

Filed Date: 08/24/2011.

Accession Number: 20110824-5101.

Comment Date: 5 p.m. Eastern Time on Wednesday, September 14, 2011.

Take notice that the Commission received the following electric rate filings:

Docket Numbers: ER11-4357-001.

Applicants: Marathon Power LLC.

Description: Marathon Power LLC submits tariff filing per 35.17(b): Amended Tariff to be effective 8/23/2011.

Filed Date: 08/24/2011.

Accession Number: 20110824-5000.

Comment Date: 5 p.m. Eastern Time on Wednesday, September 14, 2011.

Docket Numbers: ER11-4358-000.

Applicants: Southern California Edison Company.

Description: Southern California Edison Company submits tariff filing per 35.13(a)(2)(iii: LGIA Genesis McCoy Solar Project- NextEra Desert Center Blythe, LLC to be effective 8/25/2011.

Filed Date: 08/24/2011.

Accession Number: 20110824-5001.

Comment Date: 5 p.m. Eastern Time on Wednesday, September 14, 2011.

Docket Numbers: ER11-4362-000.

Applicants: Alabama Power Company.

Description: Alabama Power Company submits tariff filing per 35.13(a)(2)(iii: Black Warrior NITSA Amendment Filing (Add Terry Wyatt Delivery Point) to be effective 8/1/2011.

Filed Date: 08/24/2011.

Accession Number: 20110824-5066.

Comment Date: 5 p.m. Eastern Time on Wednesday, September 14, 2011.

Docket Numbers: ER11-4363-000.

Applicants: Osage Wind, LLC.

Description: Osage Wind, LLC submits tariff filing per 35.12: Initial Market-Base Rate Tariff to be effective 10/23/2011.

Filed Date: 08/24/2011.

Accession Number: 20110824-5086.

Comment Date: 5 p.m. Eastern Time on Wednesday, September 14, 2011.

Docket Numbers: ER11-4364-000.

Applicants: Fowler Ridge II Wind Farm LLC.

Description: Fowler Ridge II Wind Farm LLC submits tariff filing per 35: Updated Market-Based Rate Tariff Update to be effective 8/29/2011.

Filed Date: 08/24/2011.

Accession Number: 20110824-5094.

Comment Date: 5 p.m. Eastern Time on Wednesday, September 14, 2011.

Docket Numbers: ER11-4365-000.

Applicants: Montgomery L'Energia Power Partners LP.

Description: Notice of Cancellation of FERC Electric Rate Schedule Tariff of Montgomery L'Energia Power Partners LP.

Filed Date: 08/24/2011.

Accession Number: 20110824-5095.

Comment Date: 5 p.m. Eastern Time on Wednesday, September 14, 2011.

Docket Numbers: ER11-4366-000.

Applicants: Manitowoc Public Utilities.

Description: Manitowoc Public Utilities submits tariff filing per 35.1: Baseline Rate Filing to be effective 8/24/2011.

Filed Date: 08/24/2011.

Accession Number: 20110824-5104.

Comment Date: 5 p.m. Eastern Time on Wednesday, September 14, 2011.

Docket Numbers: ER11-4367-000.

Applicants: PJM Interconnection, L.L.C.

Description: PJM Interconnection, L.L.C. submits tariff filing per 35.13(a)(2)(iii: Ministerial filing to clean up the PJM Tariff Schedule 12 Appendices to be effective 9/17/2010.

Filed Date: 08/24/2011.

Accession Number: 20110824-5106.

Comment Date: 5 p.m. Eastern Time on Wednesday, September 14, 2011.

Take notice that the Commission received the following electric reliability filings:

Docket Numbers: RR11-7-000.

Applicants: North American Electric Reliability Corporpation

Description: Request of the North American Electric Reliability Corporation for Acceptance of its 2012 Business Plan and Budget and the 2012 Business Plans and Budgets of Regional Entities and for Approval of Proposed Assessments to Fund Budgets.

Filed Date: 08/24/2011.

Accession Number: 20110824-5068.

Comment Date: 5 p.m. Eastern Time on Wednesday, September 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2011.
Nathaniel J. Davis, Sr.,
Deputy Secretary.

[FR Doc. 2011-22496 Filed 9-1-11; 8:45 am]

BILLING CODE 6717-01-P